DEPARTMENT OF DEFENSE

Office of the Secretary

[Docket ID: DOD-2025-OS-0772]

Submission for OMB Review; Comment Request

AGENCY: Office of the Under Secretary of Defense for Personnel and Readiness, (OUSD(P&R)), Department of Defense (DoD).

ACTION: 30-Day information collection notice.

SUMMARY: The Department of War has submitted to the Office of Management and Budget (OMB) for clearance the following proposal for collection of information under the provisions of the Paperwork Reduction Act.

DATES: Consideration will be given to all comments received by March 27, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: In March 2019, Acting Secretary of Defense Patrick Shanahan requested the DoD form a team of experts to “take a fresh look” at issues involving the sexual assault investigative and accountability process. The DoD established the Sexual Assault Accountability and Investigation Task Force (SAAITF) to identify, evaluate, and make recommendations to improve the investigation and accountability process. As part of this effort, the 2019 SAAITF report called for a “standardized survey of victim experiences, attitudes, and satisfaction.” The Sexual Violence Support and Experiences Study (SVSES) meets this requirement and will allow DoW's Sexual Assault Prevention and Response Office, other Department policy offices, and the military Services to use the input of military members to inform improvements to the response system and to address challenges military members face during the military investigation and accountability process.

Title; Associated Form; and OMB Number: Sexual Violence Support and Experience Study; OMB Control Number 0704-0647.

Type of Request: Extension.

Number of Respondents: 300.

Responses per Respondent: 4.

Annual Responses: 1,200.

Average Burden per Response: 15 minutes.

Annual Burden Hours: 300.

Needs and Uses: Information from the SVSES will be used by the OUSD(P&R) policy offices, and the Military Departments to inform improvements to personnel policies, programs, practices, and training related to sexual assault response and accountability systems in the military. It will provide the policy offices of the OUSD(P&R) with current data on (1) Service member satisfaction with sexual assault support resources; (2) the impact that the military support and military justice processes have on Service members who indicate experiencing sexual assault during military service (e.g., their psychological health and well-being); and (3) aspects of the military support and military justice process that relate to retention intention, career progression, and separation from military service.

Any Service member (Active, Reserve, or National Guard) who has experienced unwanted sexual contact or sexual assault since joining the military will be eligible to participate in the study. Recruitment for the SVSES will include proactive outreach to Service members who previously filed an unrestricted report for sexual assault and Service members who requested to learn more about the study. The Office of People Analytics (OPA) will administer the SVSES via the web. The survey will be administered via proprietary software developed by OPA's operations contractor. To reduce respondent burden, these online surveys will use “smart skip” technology to ensure respondents only answer questions that are applicable to them.

Information from the SVSES will be used by OUSD(P&R) policy offices, and the Military Departments for program evaluation and to inform improvements to personnel policies, programs, practices, and training related to sexual assault in the military. The study will not produce generalizable statistics or findings; rather, it will inform policy and program offices within the Department about Service member satisfaction with sexual assault response resources and processes and the sexual assault accountability system. OPA will provide interim reports regarding the findings of the study to OUSD(P&R) policy offices on an annual basis and a full report on a biennial basis. Data from the SVSES will also be used in future analyses.

Affected Public: Individuals and households.

Frequency: Quarterly.

DoD Clearance Officer: Mr. Reginald Lucas.

Dated: February 23, 2026.
Stephanie J. Bost,
Alternate OSD Federal Register Liaison Officer, Department of Defense.

[FR Doc. 2026-03731 Filed 2-24-26; 8:45 am]

BILLING CODE 6001-FR-P